DEPARTMENT OF STATE

[Public Notice: 11281]

Rescission of Determination Regarding Sudan

In accordance with sections 1754 (c) and 1768(c) of the National Defense Authorization Act for Fiscal Year 2019 (50 U.S.C. 4813(c) and 4826(c)), I hereby rescind the Determination of August 12, 1993, regarding Sudan, effective December 14, 2020. This action is based upon the considerations contained in the memorandum accompanying the Presidential Report of October 26, 2020, regarding Sudan.

This rescission shall also satisfy the provisions of section 620A(c) of the Foreign Assistance Act of 1961 (22 U.S.C. 2371(c)), and section 40(f) of the Arms Export Control Act (22 U.S.C. 2780(f), and, to the extent applicable, section 6(j) of the Export Administration Act of 1979 (50 U.S.C. App. 2405(j)), and as continued in effect by Executive Order 13222 of August 17, 2001).

This notice shall be published in the Federal Register.

Dated: December 8, 2020.
Michael Pompeo,
Secretary of State.

[FR Doc. 2020-27848 Filed 12-17-20; 8:45 am]

BILLING CODE 4710-AD-P